CONSUMER PRODUCT SAFETY COMMISSION

Sunshine Act Meeting

AGENCY: U.S. Consumer Product Safety Commission, Washington, DC 20207.

TIME AND DATE: Monday, October 15, 2001, 2 p.m.

LOCATION: Room 420, East West Towers, 4330 East West Highway, Bethesda, Maryland.

STATUS: Open to the Public.

MATTER TO BE CONSIDERED:

Bed Rails

The staff will brief the Commission on options for Commission action to address hazards associated with portable bed rails.

For a recorded message containing the latest agenda information, call (301) 504-0709.

CONTACT PERSON FOR ADDITIONAL INFORMATION: Todd A. Stevenson, Office of the Secretary, 4330 East West Highway, Bethesda, MD 20207 (301) 504-0800.

Dated: October 2, 2001.
Todd A. Stevenson,
Acting Secretary.

[FR Doc. 01-25076 Filed 10-2-01; 3:15 pm]

BILLING CODE 6355-01-M